NUCLEAR REGULATORY COMMISSION

[Docket Nos. 50-237 and 50-249; NRC-2025-1105]

Constellation Energy Generation, LLC; Dresden Nuclear Power Station, Unit Nos. 2 and 3; Exemption

AGENCY: Nuclear Regulatory Commission.

ACTION: Notice; issuance.

SUMMARY: The U.S. Nuclear Regulatory Commission (NRC) is issuing an exemption from the regulation that would otherwise require the application for subsequent renewal of Facility Operating License Nos. DPR-19 and DPR-25 for Dresden Nuclear Power Station, Unit Nos. 2 and 3, respectively, to be referred to the Advisory Committee on Reactor Safeguards (ACRS) for a review and report, with any report being made part of the record of the application and made available to the public, except to the extent that security classification prevents disclosure. The NRC finds that the required criteria are met due to the special circumstance presented by Executive Order (E.O.) 14300, “Ordering the Reform of the Nuclear Regulatory Commission,” section 4(b) (stating that “[r]eview by ACRS of permitting and licensing issues shall focus on issues that are truly novel or noteworthy”).

DATES: The exemption was issued on September 11, 2025.

ADDRESSES: Please refer to Docket ID NRC-2025-1105 when contacting the NRC staff about the availability of information regarding this document. You may obtain publicly available information related to this document using any of the following methods:

• Federal Rulemaking Website: Go to https://www.regulations.gov and search for Docket ID 2025-1105. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Mark Yoo, Office of Nuclear Reactor Regulation, U.S. Nuclear Regulatory Commission, Washington, DC 20555-0001; telephone: 301-415-8583; email: Mark.Yoo@nrc.gov.

SUPPLEMENTARY INFORMATION: The text of the exemption is attached.

Dated: September 29, 2025.
For the Nuclear Regulatory Commission.
Mark Yoo,
Senior Project Manager, Division of New and Renewed Licenses, Office of Nuclear Reactor Regulation.

Attachment—Exemption

NUCLEAR REGULATORY COMMISSION

[Docket Nos. 50-237 and 50-249; NRC-2024-0080]

Constellation Energy Generation, LLC; Dresden Nuclear Power Station Units 2 and 3; Exemption

I. Background

The Constellation Energy Generation, LLC (CEG) is the holder of Facility Operating License Nos. DPR-19 and DPR-25 for Dresden Nuclear Power Station (Dresden), Units 2 and 3, respectively. The licenses provide, among other things, that the licensee is subject to all rules, regulations, and orders of the Commission now or hereafter in effect. The U.S. Nuclear Regulatory Commission (NRC) issued the initial operating licenses for Dresden, Units 2 and 3 on February 20, 1991, and January 12, 1971, respectively. Dresden, Units 2 and 3 are General Electric boiling water reactors with Mark I containments and a licensed thermal power level of 2,957 megawatts thermal each. Dresden, Units 2 and 3 are located in Morris, Illinois.

On April 17, 2024, CEG submitted to the NRC an application for subsequent renewal of Facility Operating License Nos. DPR-19 and DPR-25 for Dresden, Units 2 and 3, pursuant to title 10 of the Code of Federal Regulations (10 CFR) Part 54, “Requirements for Renewal of Operating Licenses for Nuclear Power Plants” requesting renewal for a period of 20 years beyond the current facility operating license expirations of December 22, 2029, for Unit 2 and January 12, 2031, for Unit 3. A final decision on the application is expected on or before November 13, 2025.

Under 10 CFR 54.25, “[e]ach renewal application will be referred to the Advisory Committee on Reactor Safeguards for a review and report. Any report will be made part of the record of the application and made available to the public, except to the extent that security classification prevents disclosure.” The December 31, 1991, rulemaking that promulgated 10 CFR 54.25 (Nuclear Power Plant License Renewal, (56 FR 64943, 64966)) noted that review by the ACRS was desirable but such review was not required by statute.

On May 23, 2025, the President issued Executive Order (E.O.) 14300 (90 FR 22587), “Ordering the Reform of the Nuclear Regulatory Commission,” and section 4(b) of E.O. 14300 states that “[r]eview by ACRS of permitting and licensing issues shall focus on issues that are truly novel or noteworthy.”

On September 9, 2025, the NRC staff issued a Safety Evaluation (SE) (ML25251A146) documenting the NRC staff's review of CEG's subsequent license renewal application for Dresden, Units 2 and 3. Because the NRC staff identified no issues in this license renewal application review that are “truly novel or noteworthy,” the NRC is granting an exemption to the requirement in 10 CFR 54.25 to send the application to the ACRS for review.

II. Action

In light of E.O. 14300, the status of the review of the subsequent license renewal application for Dresden, Units 2 and 3, and the fact that the NRC staff found no “truly novel or noteworthy” issues in the application that would benefit from an ACRS review, the NRC staff determined that a staff-initiated exemption to 10 CFR 54.25 was warranted and should be granted. Pursuant to 10 CFR 54.15, “Specific exemptions,” exemptions from the requirements of 10 CFR part 54 may be granted by the Commission in accordance with 10 CFR 50.12. Per 10 CFR 50.12(a), “[t]he Commission may, upon application by any interested person or upon its own initiative, grant exemptions from the requirements of the regulations of this part,” when certain conditions are met. Further, per 10 CFR 50.12(a)(2), the Commission will not consider granting an exemption unless special circumstances are present. Under 10 CFR 50.12(b)(vi), special circumstances are present whenever there is present any other material circumstance not considered when the regulation was adopted for which it would be in the public interest to grant an exemption, but if such condition is relied on exclusively for satisfying paragraph (a)(2), then the exemption may not be granted until the Executive Director for Operations (EDO) has consulted with the Commission. The NRC staff has determined that those criteria are met and an exemption from 10 CFR 54.25 may be granted for the reasons explained below.

III. Discussion

As described in 10 CFR 1.13, the ACRS was established by the Atomic Energy Act of 1954 (AEA), as amended. Among other things, the ACRS reviews and reports on safety studies and applications for construction permits as well as facility operating licenses. The ACRS also reviews any generic issues or other matters referred to it by the Commission for advice.

In addition, 10 CFR 54.25, as originally promulgated in 1991, requires that “[e]ach renewal application will be referred to the Advisory Committee on Reactor Safeguards for a review and report. Any report will be made part of the record of the application and made available to the public, except to the extent that security classification prevents disclosure.” The December 31, 1991, rulemaking notice explained (56 FR 64966) the background of the requirement thusly:

Section 182.b of the AEA states:

The ACRS shall review each application under section 103 or section 104b. for a construction permit or an operating license for a facility, any application under section 104c. for a construction permit or an operating license for a testing facility, any application under section 104a. or c. specifically referred to it by the Commission, and any application for an amendment to a construction permit or an amendment to an operating license under section 103 or 104a., b., or c. specifically referred to it by the Commission * * *

Section 182.b does not explicitly refer to applications for renewal of an operating license as requiring ACRS review. However, the Commission believes that review by the ACRS is desirable. Accordingly, § 54.25 of the final rule requires ACRS review of a license renewal application.

The Commission has not changed 10 CFR 54.25 since its initial issuance in 1991. Further, no subsequent amendments of the AEA have set forth a requirement for the ACRS to review an application for a renewed license.

10 CFR 54.15, “Specific exemptions,” states that “[e]xemptions from the requirements of this part may be granted by the Commission in accordance with 10 CFR 50.12.” Pursuant to 10 CFR 50.12(a)(1), “Specific exemptions,” the Commission may, “upon application by any interested person or upon its own initiative, grant exemptions from the requirements of the regulations of this part, which are authorized by law, will not present an undue risk to the public health and safety, and are consistent with the common defense and security.”

Exemptions Are Authorized by Law

For an exemption to be authorized by law the item to be exempted cannot be required by statute. The requirement in 10 CFR 54.25 is not required by the AEA, nor required by any other law. As noted by the Commission in 1991 (56 FR 64966), the AEA does not explicitly refer to applications for renewal of an operating license as requiring ACRS review. This remains true today. Accordingly, the NRC finds that the exemption is authorized by law.

Exemption Will Not Present an Undue Risk to the Public Health and Safety

The standards and criteria that must be met before the Commission issues a renewed or subsequent renewed license are not affected by an exemption to 10 CFR 54.25. After an exemption to 54.25, the regulation at 10 CFR 54.29 will continue to set forth the safety criteria that must be met before a renewed or subsequent renewed license may be issued by the Commission. The NRC staff, which has a robust process for reviewing applications for renewed licenses, has completed its detailed review of how the Dresden, Units 2 and 3, subsequent license renewal application addressed the standards of 10 CFR 54.29 (and other relevant regulations). The result of the safety review is documented in a SE. The already-completed reviews by the NRC staff confirmed that the application did not contain anything “truly novel or noteworthy,” thereby assuring that an exemption from 10 CFR 54.25's requirement to refer the application to the ACRS will not present an undue risk to public health and safety.

Exemption is Consistent With the Common Defense and Security

The NRC staff has determined that the exemption from an ACRS review of the subsequent license renewal application does not impact common defense and security in large part because the common defense and security are not within the scope of subsequent license renewal review that is concerned with aging effects. When promulgating revisions to the license renewal rules (60 FR 22461, 22463-64) in 1995, the Commission re-affirmed its philosophy that the existing regulatory process is adequate to ensure that the licensing bases of all currently operating plants provides and maintains an acceptable level of safety so that operation will not be inimical to public health and safety or common defense and security. The exemption from an ACRS review, otherwise required by 10 CFR 54.25, does not alter any common defense or security matter or regulation. Thus, the exemption is consistent with common defense and security.

Special Circumstances are Present

Pursuant to 10 CFR 50.12(a)(2), the Commission will not consider granting an exemption unless special circumstances are present. 10 CFR 50.12(a)(2)(vi) states that special circumstances are present when, “[t]here is present any other material circumstance not considered when the regulation was adopted for which it would be in the public interest to grant an exemption. If such condition is relied on exclusively for satisfying paragraph (a)(2) of this section, the exemption may not be granted until the Executive Director for Operations has consulted with the Commission.”

The 2025 E.O. 14300 did not, of course, exist when 10 CFR 54.25 was promulgated in 1991. Thus E.O. 14300 was not, and could not, be considered when 10 CFR 54.25 was issued with a blanket requirement that all renewal applications be referred to ACRS. Section 4(b) of E.O. 14300 states that “[r]eview by ACRS of permitting and licensing issues shall focus on issues that are truly novel or noteworthy.” The NRC staff determined that there were no “truly novel or noteworthy” issues in the Dresden, Units 2 and 3, subsequent license renewal application. To make a determination that the subsequent license renewal application for Dresden, Units 2 and 3, contained no novel or noteworthy issues, the NRC staff drew upon its demonstrated past experience with a total of 90 approved license renewal applications and 13 approved subsequent license renewal applications. When those past reviews identified novel or noteworthy issues (e.g., issues related to buried gray cast iron piping), the NRC staff took appropriate action. However, no such issues are present in the subsequent license renewal application for Dresden, Units 2 and 3. The issuance of E.O. 14300 is the material circumstance not considered when 10 CFR 54.25 was adopted, and the NRC has followed the E.O. concerning limiting ACRS review for issues that are truly novel or noteworthy. Thus, it is in the public interest to grant an exemption. In fulfillment of 10 CFR 50.12(a)(2)(vi), the EDO consulted with the Commission on the granting of the 10 CFR 54.25 exemptions.

Environmental Consideration

This exemption removes the requirement in 10 CFR 54.25 to refer the subsequent license renewal application to the ACRS for a review and report, with any report being made part of the record of the application and made available to the public, except to the extent that security classification prevents disclosure. The NRC staff has determined that this exemption does not have an effect on the human environment and, therefore, a categorical exclusion under 10 CFR 51.22 is appropriate.

Under 10 CFR 51.22(c), licensing, regulatory, and administrative actions eligible for categorical exclusion shall meet the following criterion, namely that “[t]he action belongs to a category of actions which the Commission, by rule or regulation, has declared to be a categorical exclusion, after first finding that the category of actions does not individually or cumulatively have a significant effect on the human environment.” Under 10 CFR 51.22(c)(25), categories of actions that are categorical exclusions include granting of an exemption from the requirements of any regulation of 10 CFR Chapter I, provided that: (i) there is no significant hazards consideration; (ii) there is no significant change in the types or significant increase in the amounts of any effluents that may be released offsite; (iii) there is no significant increase in individual or cumulative public or occupational radiation exposure; (iv) there is no significant construction impact; (v) there is no significant increase in the potential for or consequences from radiological accidents; and (vi) the requirements from which an exemption is sought involving an item listed in 10 CFR 51.22(c)(25)(vi)(A)-(I); 10 CFR 51.22(c)(25)(vi)(A), (B), and (I) are “recordkeeping requirements,” “reporting requirements,” or “other requirements of an administrative, managerial, or organizational nature,” respectively. As explained below, these criteria are satisfied.

An exemption involves no significant hazards consideration if, as provided in 10 CFR 50.92(c), operation of the facility in accordance with the proposed exemption would not: “(1) [i]nvolve a significant increase in the probability or consequences of an accident previously evaluated; or (2) [c]reate the possibility of a new or different kind of accident from any accident previously evaluated; or (3) [i]nvolve a significant reduction in a margin of safety.” This exemption has no bearing on the operation of Dresden, Units 2 and 3, and the NRC staff identified no “truly novel or noteworthy” issues for an ACRS review. Referring (or declining to refer) the application to the ACRS does not change any manner in which the facility would operate and, accordingly, the factors above are met. The requirement in 10 CFR 54.25 for the application to be referred to the ACRS for review and report, with any report being made part of the record of the application fits within 10 CFR 51.22(c)(25)(vi)(A), (B), and (I) in that they involve “recordkeeping requirements,” “reporting requirements,” or “other requirements of an administrative, managerial, or organizational nature.” Accordingly, an exemption from 10 CFR 54.25 meets the eligibility criteria for categorical exclusion set forth in 10 CFR 51.22(c)(25). Pursuant to 10 CFR 51.22(b), no environmental impact statement or environmental assessment need be prepared in connection with the issuance of the exemption.

IV. Conclusions

Accordingly, the Commission has determined that, pursuant to 10 CFR 54.15, “Specific exemptions,” (stating that exemptions from the requirements of 10 CFR part 54 may be granted by the Commission in accordance with 10 CFR 50.12), an exemption from the 10 CFR 54.25 requirement to send the Dresden, Units 2 and 3, subsequent license renewal application to the ACRS for review is granted. The standards of 10 CFR 50.12(a) are met in that the exemption from 10 CFR 54.25 is authorized by law, will not present an undue risk to the public health and safety, is consistent with the common defense and security, special circumstances are present, and the EDO has consulted with the Commission. Therefore, the subsequent license renewal application is no longer required to be referred to the ACRS for a review and report.

The exemption is effective upon issuance.

Dated at Rockville, Maryland, this 11th day of September 2025.
For the Nuclear Regulatory Commission.
Michele Sampson,
Director, Division of New and Renewed Licenses, Office of Nuclear Reactor Regulation.

[FR Doc. 2025-19140 Filed 9-30-25; 8:45 am]

BILLING CODE 7590-01-P